OFFICE OF MANAGEMENT AND BUDGET

Draft 2005 Report to Congress on the Costs and Benefits of Federal Regulations

AGENCY: Office of Management and Budget, Executive Office of the President.

ACTION: Notice of availability and request for comments.

SUMMARY: OMB requests comments on 2005 Draft Report to Congress on the Costs and Benefits of Federal Regulation. The full Draft Report is available at http://www.whitehouse.gov/omb/inforeg/regpolreports_congress.html, and is divided into three chapters. Chapter I presents estimates of the costs and benefits of Federal regulation and paperwork, with an emphasis on the major regulations issued between October 1, 2003 and September 31, 2004. Chapter II reports the latest results of our ongoing historical examination of the trends in Federal regulatory activity and explores what we know about the validation of ex ante estimates of costs and benefits of Federal regulation by ex post studies. Chapter III includes a discussion of the implementation of the Information Quality Act.

DATES: To ensure consideration of comments as OMB prepares this Draft Report for submission to Congress, comments must be in writing and received by June 21, 2005.

ADDRESSES: We are still experiencing delays in the regular mail, including first class and express mail. To ensure that your comments are received, we recommend that comments on this draft report be electronically mailed to OIRA_BC_RPT@omb.eop.gov, or faxed to (202) 395-7245. You may also submit comments to Lorraine Hunt, Office of Information and Regulatory Affairs, Office of Management and Budget, NEOB, Room 10202, 725 17th Street, NW., Washington, DC 20503.

FOR FURTHER INFORMATION CONTACT: Lorraine Hunt, Office of Information and Regulatory Affairs, Office of Management and Budget, NEOB, Room 10202, 725 17th Street, NW., Washington, DC 20503. Telephone: (202) 395-3084.

SUPPLEMENTARY INFORMATION: Congress directed the Office of Management and Budget (OMB) to prepare an annual Report to Congress on the Costs and Benefits of Federal Regulations. Specifically, Section 624 of the FY 2001 Treasury and General Government Appropriations Act, also known as the “Regulatory Right-to-Know Act,” (the Act) requires OMB to submit a report on the costs and benefits of Federal regulations together with recommendation for reform. The Act states that the report should contain estimates of the costs and benefits of regulations in the aggregate, by agency and agency program, and by major rule, as well as an analysis of impacts of Federal regulation on State, local, and tribal governments, small businesses, wages, and economic growth. The Act also states that the report should go through notice and comment and peer review.

Donald R. Arbuckle,
Deputy Administrator, Office of Information and Regulatory Affairs.

[FR Doc. 05-5651 Filed 3-22-05; 8:45 am]

BILLING CODE 3110-01-P